DEPARTMENT OF AGRICULTURE

Food and Nutrition Service

Agency Information Collection Activities: Proposed Collection; Comment Request—Supplemental Nutrition Assistance Program (SNAP), Store Applications, Forms FNS-252, FNS-252-E, FNS-252-FE, FNS-252-R, FNS-252-2 and FNS-252-C

AGENCY: Food and Nutrition Service (FNS), USDA.

ACTION: Notice.

SUMMARY: In accordance with the Paperwork Reduction Act of 1995, this notice invites the general public and other public agencies to comment on the proposed collection. This is a revision of a currently approved collection in the Supplemental Nutrition Assistance Program and concerns Retail Store Applications (Forms FNS-252; FNS-252-E; FNS-252-FE; FNS-252-R; FNS-252-2; and FNS-252-C).

DATES: Written comments must be received on or before April 17, 2017.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical or other technological collection techniques or other forms of information technology.

Comments may be sent to: Shelly Pierce, Chief, Retailer Administration Branch, Supplemental Nutrition Assistance Program, Retailer Policy and Management Division, Food and Nutrition Service, U.S. Department of Agriculture, 3101 Park Center Drive, Room 438, Alexandria, VA 22302. Comments may be faxed to the attention of Ms. Pierce at (703) 305-1863 or via email to: RPMDHQ-WEB@fns.usda.gov. Comments will also be accepted through the Federal eRulemaking Portal. Go to http://www.regulations.gov, and follow the online instructions for submitting comments electronically.

All written comments will be open for public inspection at the FNS office located at 3101 Park Center Drive, Room 438, Alexandria, Virginia 22302, during regular business hours (8:30 a.m. to 5 p.m. Monday through Friday).

All responses to this notice will be summarized and included in the request for Office of Management and Budget approval. All comments will be a matter of public record.

FOR FURTHER INFORMATION CONTACT: Requests for additional information or copies of this information collection should be directed to Shelly Pierce at RPMDHQ-WEB@fns.usda.gov.

SUPPLEMENTARY INFORMATION:

Title: Supplemental Nutrition Assistance Program (SNAP)—Store Applications.

Form Number: FNS-252; 252-E; 252-FE; 252-R; 252-2; and 252-C.

OMB Number: 0584-0008.

Expiration Date: August 31, 2017.

Type of Request: Revision of a currently approved collection of information.

Abstract: Section 9(a) of the Food and Nutrition Act of 2008, as amended, (the Act) (7 U.S.C. 2011 et seq.) requires that FNS determine the eligibility of retail food stores and certain food service organizations to accept SNAP benefits and to monitor them for compliance and continued eligibility and to ensure Program integrity.

FNS is also responsible for requiring updates to application information and reviewing retail food store applications at least once every five years to ensure that each firm is under the same ownership and continues to meet eligibility requirements. The Act specifies that only those applicants whose participation will “effectuate the purposes of the program” should be authorized.

There are six forms associated with this approved Office of Management and Budget (OMB) information collection number 0584-0008—the Supplemental Nutrition Assistance Program Application for Stores, Forms FNS-252 (English and Spanish) and FNS-252-E (paper and online version respectively); Farmer's Market Application, Form FNS-252-FE; Meal Service Application, Form FNS-252-2; Reauthorization Application, Form FNS-252-R; and the Corporation Supplemental Application, Form FNS-252-C used for individual (chain) stores under a corporation. For new authorizations, the majority of applicants use form FNS-252 or FNS-252-E (paper or online, respectively). FNS is responsible for reviewing retail food store applications at least once every five years to ensure that each firm is under the same ownership and continues to meet eligibility guidelines. In order to accomplish this regulatory requirement, form FNS-252-R is used for reauthorization. In addition to these forms, during authorization or reauthorization, FNS may conduct an on-site store visit of the firm. The store visit of the firm helps FNS confirm that the information provided on the application is correct. An FNS representative or store visit contractor obtains permission to fill in the store visit checklist, photograph the store and asks the store owner or manager about the continued ownership of the store.

Applicants using form FNS-252-E or FNS-252-FE must also first self-register for a Level 1 access account through the USDA eAuthentication system in order to start an online application. USDA eAuthentication facilitates the electronic authentication of an individual.

The Agricultural Act of 2014 (2014 Farm Bill) amended the Food and Nutrition Act of 2008 (the Act) to increase the requirement that certain SNAP authorized food stores have available on a continual basis at least three varieties of items in each of four staple food categories, to a mandatory minimum of seven varieties. The 2014 Farm Bill also amended the Act to increase, for certain SNAP authorized retail food stores, the minimum number of categories which perishable foods are required from two to three. Further, using existing authority in the Act and feedback from a Request for Information that was published in the Federal Register on August 20, 2013, FNS proposed some additional changes. Among other items, these proposed changes would address depth of stock, amend the definition of “staple foods”, and amend the definition of “retail food store” to clarify when a retailer is a restaurant rather than a retail food store. These changes were made in the final rule titled “Enhancing Retailer in the Supplemental Nutrition Assistance Program (SNAP) which was published in the Federal Register on December 15, 2016 (81 FR 90675).

FNS seeks to renew the current information collection, and where appropriate, revise the information collection of all SNAP application forms (paper and electronic), in order to clarify and/or reword questions, instructions, and examples as a result of these regulatory changes required by the Act and amended by the Farm Bill. Such changes would include (1) revision to the Food Inventory section; (2) additional inventory stock examples of perishables and varieties of staple food items; (3) additional questions that ask whether the store has a Web site, whether optical scanners are used at the store, the name and address of the financial institution where SNAP deposits will be made, and whether the store offers any incentives or discounts to SNAP recipients; and (4) update assistance materials such as the General and Specific Instruction sections and on-line help screens.

FNS used FY 2016 data in our calculation of burden estimates associated with this information collection as this was the most complete data available to us at this time. Table A below clarifies the burden of this information collection.

The total burden hours associated with this information collection increased by approximately 2.33 minutes. The response time per respondent varies from 1 minute to 14.11 minutes. We estimate the new burden, on average, to be 6.34 minutes per respondent, an increase from 6.11 minutes. There is no recordkeeping burden associated with these forms.

Affected Public: Business for Profit; Retail food stores; Farmers' Markets.

Estimated Number of Respondents: The total estimated number of respondents is 127,597 annually.

Estimated Number of Responses per Respondent: Respondents complete either 1 application form at initial authorization or 1 reauthorization application, as appropriate, for a total of 1 response each.

Estimated Total Annual Responses: 127,597.

Estimated Time per Response: 6.34 minutes (0.109548). The estimated time response varies from 1 minute to 14.11 minutes depending on respondent group, as shown in the table below:

Table A—Reporting Estimate of Hour Burden: Summary of Burden—#0584-0008
Affected public | (a) Description of collection activity | (b) Form number | (c) Number respondents | (d) Number responses per respondent | (e) Total annual responses (c × d) | (f) Hours per response | (g) Total burden (e × f)
Reporting
Retailers | Applications Received | 252 | 1,240 | 1 | 1,240 | 0.23638 | 293
| Applications Received | 252-E | 31,919 | 1 | 31,919 | 0.16861 | 5,382
| E-Authentication | 252-E and FNS-252-FE | 33,399 | 1 | 33,399 | 0.13360 | 4,462
| Applications Received | 252-FE | 1,480 | 1 | 1,480 | 0.21861 | 324
| Applications Received | 252-2 | 372 | 1 | 372 | 0.19416 | 72
| Applications Received | 252-C | 4,594 | 1 | 4,594 | 0.08350 | 384
| Store Visits |  | 40,522 | 1 | 40,522 | 0.01670 | 677
| Reauthorization | 252-R | 14,071 | 1 | 14,071 | 0.16944 | 2,384
Total Reporting Burden | 127,597 | 1 | 127,597 | 13,978
| Number of respondents | Estimate annual responses per respondent | Estimate total annual responses | Estimate hours per response | Estimate total annual burden for this ICR
Summary of Burden for This Collection | 127,597 | 1 | 127,597 | 0.1029542 | 13,978

Dated: February 8, 2017.
Jessica Shahin,
Acting Administrator, Food and Nutrition Service.

[FR Doc. 2017-03078 Filed 2-15-17; 8:45 am]

BILLING CODE 3410-30-P